NATIONAL SCIENCE FOUNDATION

Sunshine Act Meetings

The National Science Board (NSB), the NSB Committee on Strategy (CS), and the Committee on Awards and Facilities (A&F) hereby give notice of the scheduling of meetings for the transaction of National Science Board business pursuant to the National Science Foundation Act and the Government in the Sunshine Act.

TIME AND DATE: Wednesday, May 1, 2024, from 8:30 a.m.-3:40 p.m. and Thursday, May 2, 2024, from 8:30 a.m.-2:30 p.m. Eastern.

PLACE: These meetings will be held at NSF headquarters, 2415 Eisenhower Avenue, Alexandria, VA 22314, and by videoconference. If the COVID status for Alexandria, Virginia goes to “high,” please fill out and bring OMB's certification of vaccination form with you. All open sessions of the meeting will be webcast live on the NSB YouTube channel.

May 1, 2024: https://youtube.com/live/LqwL3CFVG8I?feature=share.

May 2, 2024: https://youtube.com/live/LbXG5bYTzGA?feature=share.

STATUS: Parts of these meetings will be open to the public. The rest of the meetings will be closed to the public. See full description below.

MATTERS TO BE CONSIDERED:

Wednesday, May 1, 2024

Plenary Board Meeting

Open Session: 8:30 a.m.-12:00 p.m.

• NSB Chair's Opening Remarks

○ Welcome

○ Agenda Preview

○ Chair's Activities and Updates

• NSF Director's Opening Remarks

○ Highlights of NSF Thematic Priorities

○ Engagements

○ Senior Staff introductions

• NSB External Panel on Artificial Intelligence, The Future is Now: Harnessing AI for Good

• Approval of February 2024 Open Meeting Minutes

• NSB Committee Reports

• Committee on External Engagement

○ Highlights of engagement initiatives

○ Reflections and road ahead

• Committee on Science and Engineering Policy

○ Indicators 2024

○ Indicators 2026 and Vote

○ National Security Team

○ Talent Development Team

○ Reflections and road ahead

• Committee on Oversight

○ Research misconduct

○ NSF FY 2023 Financial Statement

○ Chief Financial Officer report highlights

○ Reflections and road ahead

• Committee on Strategy

○ Reflections and road ahead

• Subcommittee on Technology, Innovation, and Partnerships

○ Closing reflections and road ahead

Plenary Board Meeting

Closed Session: 12:00-12:50 p.m.

• NSB Chair's remarks

• Approval of Feb 2024 closed meeting minutes

• Committee Reports

○ Committee on Strategy report

○ Update on FY 24 current plan implications

○ Long-term planning and FY 26 development

○ Subcommittee on Technology, Innovation and Partnerships

○ TIP Roadmap update

• Vote to Enter Executive Closed Session

Executive Closed Session: 1:35-3:40 p.m.

• NSB Chair's Remarks

• Approval of February 2024 Executive Plenary Closed Minutes

• Director's Remarks

• Organizational updates

• Board Elections

• Chair, Vice Chair, and EC seat if applicable

• NSB Chair's closing remarks

Thursday, May 2, 2024

Plenary Board Meeting

Open Session: 8:30-11:40 a.m.

• NSB Chair's Opening Remarks

• Farewell to Members

○ Chair's remarks, NSB accomplishments and road ahead

○ Member recognition, Chair and Director

• Q&A with the 2024 NSB Vannevar Bush, Science & Society, and Waterman Awardees

• Committee Report

○ NSB-NSF Commission on Merit Review

○ Preliminary policy recommendations

Plenary Board Meeting

Closed Session: 11:40 a.m.-12:40 p.m.

• Committee Report

○ NSB-NSF Commission on Merit Review

○ Preliminary policy recommendations discussion

Plenary Board

Closed Session: 1:10 p.m.-1:35 p.m.

• Committee Report

• Committee on Awards and Facilities

○ Action Item: National Solar Observatory Operations & Maintenance Award

○ Information Item: Planning for future major facilities

A&F Committee

Open Session: 1:35-2:10 p.m.

• Chair's Remarks

• Reflection and road ahead

• Update on Antarctic Science and Engineering Support Contract

• Information Item: NSF's Decision Process for the USELT Program

A&F Committee

Closed Session: 2:10-2:30 p.m.

• Information Item: NSF's Decision Process for the USELT Program

Meeting Adjourns: 2:30 p.m.

Portions Open to the Public

Wednesday, May 1, 2024

8:30 a.m.-12:00 p.m. Plenary NSB

Thursday, May 2, 2024

8:30 a.m.-11:40 a.m. Plenary NSB

1:35 p.m.-2:10 p.m. Committee on Awards and Facilities (A&F)

Portions Closed to the Public

Wednesday, May 1, 2024

12:00 p.m.-12:50 p.m. Plenary NSB

1:35 p.m.-3:40 p.m. Plenary executive

Thursday, May 2, 2024

11:40 a.m.-12:40 p.m. Plenary NSB

1:10 p.m.-1:35 p.m. Plenary NSB

2:10 p.m.-2:30 p.m. A&F

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Christopher Blair, cblair@nsf.gov, 703-292-7000. The NSB Public Affairs contact is Nadine Lymn, nlymn@nsf.gov, 703-292-2490. Please refer to the NSB website for additional information: https://www.nsf.gov/nsb.

Ann E. Bushmiller,
Senior Legal Counsel to the National Science Board.

[FR Doc. 2024-09367 Filed 4-26-24; 11:15 am]

BILLING CODE 7555-01-P